DEPARTMENT OF HEALTH AND HUMAN SERVICES

Centers for Medicare & Medicaid Services

42 CFR Part 414

[CMS-1385-CN3]

RIN 0938-AO65

Medicare Program; Revisions to Payment Policies Under the Physician Fee Schedule, and Other Part B Payment Policies for CY 2008; Delay of the Date of Applicability of the Revised Anti-Markup Provisions for Certain Services Furnished in Certain Locations (§ 414.50); Correction

AGENCY: Centers for Medicare & Medicaid Services (CMS), HHS.

ACTION: Final rule; correction.

SUMMARY: This document corrects typographical errors identified in the final rule that appeared in the January 3, 2008 Federal Register (73 FR 404). The final rule delayed until January 1, 2009 the applicability of the anti-markup provisions in § 414.50, as revised at 72 FR 66222, except with respect to the technical component of a purchased diagnostic test and with respect to any anatomic pathology diagnostic testing services furnished in space that is utilized by a physician group practice as a “centralized building” (as defined at § 411.351) for purposes of complying with the physician self-referral rules and does not qualify as a “same building” under § 411.355(b)(2)(i) of this chapter.

DATES: Effective Date: This correction notice is effective January 1, 2008.

FOR FURTHER INFORMATION CONTACT: Donald Romano, (410) 786-1401.

SUPPLEMENTARY INFORMATION:

I. Background

In FR Doc. 07-6280 (73 FR 404), the final rule entitled “Revisions to Payment Policies Under the Physician Fee Schedule, and Other Part B Payment Policies for CY 2008; Delay of the Date of Applicability of the Revised Anti-Markup Provisions for Certain Services Furnished in Certain Locations (§ 414.50),” there were typographical errors in the preamble that are identified and corrected in this correction notice. The provisions of this correction notice are effective January 1, 2008.

II. Summary of Errors

On page 406, we are correcting a typographical error in section III., Waiver of Proposed Rulemaking, to clarify that the delay of the applicability date for revised § 414.50 excludes any anatomic pathology diagnostic testing services furnished in space that is utilized by a physician group practice as a “centralized building” (as defined at § 411.351) for purposes of complying with the physician self-referral rules and does not qualify as a “same building” under § 411.355(b)(2)(i). We are also correcting a typographical error in section IV., Collection of Information Requirements, by correcting the U.S.C. citation of the Paperwork Reduction Act of 1995.

III. Correction of Errors

On page 406, in the 1st column;

a. The 1st partial paragraph, line 2, the phrase “revised § 414.50 with respect to” is corrected to read “revised § 414.50 except with respect to.”

b. The 1st full paragraph, line 8, the phrase “(44 U.S.C. 35)” is corrected read “(44 U.S.C. 3501)”

IV. Waiver of Proposed Rulemaking

We ordinarily publish a notice of proposed rulemaking and invite public comment on the proposed rule. The notice and comment rulemaking procedure is not required, however, if the rule is interpretive or procedural in nature, and it may be waived if there is good cause that it is impracticable, unnecessary, or contrary to the public interest and we incorporate in the rule a statement of such a finding and the reasons supporting that finding. Likewise, we ordinarily provide for a delayed effective date of a final rule, but we are not required to do so if the rule is procedural or interpretive. Where a delayed effective date is required, this requirement may be waived for good cause. We set forth below our finding of good cause for the waiver of notice and comment rulemaking and the waiver of a delayed effective date.

Our implementation of this action without opportunity for public comment and without a delayed effective date is based on the good cause exceptions in 5 U.S.C. 553(b)(3)(B) and (d), respectively. We find that seeking public comment on this action is impracticable and contrary to the public interest. We issued the delay in applicability notice as a result of our review of the informal comments on the final rule with comment period from various stakeholders. We are correcting typographical errors from that notice, and therefore, do not believe that further notice and comment is necessary at this time.

Authority: (Catalog of Federal Domestic Assistance Program No. 93.773, Medicare—Hospital Insurance; and Program No. 93.774, Medicare—Supplementary Medical Insurance Program)

Dated: January 10, 2008.
Ann C. Agnew,
Executive Secretary to the Department.

[FR Doc. E8-561 Filed 1-14-08; 8:45 am]

BILLING CODE 4120-01-P